DEPARTMENT OF THE INTERIOR

Bureau of Reclamation

[RR02054000, 19XR0687NA, RX.18527901.3000000]

Central Valley Project Improvement Act 2020 Criteria for Evaluating Water Management Plans Standard Criteria

AGENCY: California-Great Basin—Interior Region 10, Bureau of Reclamation, Department of the Interior.

ACTION: Notice of availability.

SUMMARY: The Bureau of Reclamation has made available to the public the draft 2020 Criteria for Evaluating Water Management Plans (Standard Criteria) for public review and comment. Reclamation is publishing this notice in order to allow the public an opportunity to review the draft 2020 Standard Criteria.

DATES: Submit written comments on the preliminary determinations on or before March 25, 2020.

ADDRESSES: Send written comments to Ms. Charlene Stemen, Bureau of Reclamation, 2800 Cottage Way, CGB-400, Sacramento, CA 95825; or via email at cstemen@usbr.gov.

FOR FURTHER INFORMATION CONTACT: To be placed on a mailing list for any subsequent information, please contact Ms. Charlene Stemen at cstemen@usbr.gov or at 916-978-5218 (TDD 978-5608).

SUPPLEMENTARY INFORMATION: Section 3405(e) of the Central Valley Project Improvement Act (Title 34 Pub. L. 102-575) requires the Secretary of the Interior to, among other things, “develop criteria for evaluating the adequacy of all water conservation plans” developed by certain contractors. According to Section 3405(e)(1), these criteria must promote “the highest level of water use efficiency reasonably achievable by project contractors using best available cost-effective technology and best management practices.” In accordance with this legislative mandate, the Bureau of Reclamation developed and published the Standard Criteria, which is updated every 3 years.

We invite the public to comment on our preliminary (i.e., draft) 2020 Standard Criteria.

A copy of the draft 2020 Standard Criteria will be available for review at Reclamation's office in Sacramento, California, located at 2800 Cottage Way, CGB-410, Sacramento, CA 95825. If you wish to review a copy of the draft 2020 Standard Criteria or receive an electronic copy via email, please contact Ms. Stemen or visit https://www.usbr.gov/mp/watershare.

Richard Woodley,
Regional Resources Manager, Bureau of Reclamation, California-Great Basin—Interior Region 10.

[FR Doc. 2020-03540 Filed 2-21-20; 8:45 am]

BILLING CODE 4332-90-P